Proclamation 9957 of October 31, 2019

National Adoption Month, 2019

By the President of the United States of America

A Proclamation

Every child is precious and deserves a loving family of his or her own. During National Adoption Month, we honor the adoptive parents who provide homes—and the invaluable gifts of hope, love, and stability—to thousands of infants, children, and youth. We also recognize the dedicated professionals who work tirelessly to sustain their families through compassion and hard work.

The families who provide forever homes to children and youth in the foster care system should be recognized for their loving adoptions. While preliminary data show a fortunate decline in the foster care population over the past year, foster care numbers are still too high. In Fiscal Year (FY) 2018 alone, nearly 690,000 children and youth were served by the foster care system. While there were more than 63,000 adoptions from the foster care system in FY 2018, thousands of children and youth are still waiting to find permanent, loving families. The need is urgent. We must improve efforts to recruit new adoptive families while faithfully supporting, equipping, and encouraging those families who have already taken one of our Nation's young people into their home to love and care for.

This month, we also reaffirm our commitment to our Nation's most vulnerable and valuable resource—our children, especially those at greatest risk of neglect. Thousands of older youth in the foster care system desperately need the ongoing guidance and support of a nurturing family. Too many of our youth transition to the next stage of their lives without stable family connections or positive role models to help them navigate the challenges of adulthood. Additionally, children with disabilities and those with siblings typically wait longer for permanent placement in a home. These children need a family who will provide a foundation of acceptance, mentorship, and unconditional love that will motivate and help them to reach their full potential in life.

The health and well-being of all young people is a top priority in my Administration, and a strong family bond is one of life's greatest joys and richest blessings. That is why we will continue to champion adoption as a profound way to transform lives, strengthen families, and ignite hope across America. In addition, we will protect our country's long and vital tradition of faith-based agencies helping children find their forever homes. We are committed to ensuring that faith-based agencies are able to unite children with families while following their deeply held religious beliefs.

During this annual observance of National Adoption Month, we acknowledge that every child—born and unborn—is uniquely gifted by their Creator and endowed with both potential and immeasurable value. We recognize the loving and devoted individuals who are part of God's plan for every child by taking on the role of a parent through adoption. We also celebrate the beautiful families created through the generous act of adoption, and we hold all the children and youth still waiting for their forever families close in our hearts and lift them up in our prayers.

NOW, THEREFORE, I, DONALD J. TRUMP, President of the United States of America, by virtue of the authority vested in me by the Constitution and the laws of the United States, do hereby proclaim November 2019 as National Adoption Month. I encourage all Americans to observe this month by helping children and youth in need of a permanent home secure a more promising future with a forever family and enter adulthood with the love and connections we all need.

IN WITNESS WHEREOF, I have hereunto set my hand this thirty-first day of October, in the year of our Lord two thousand nineteen, and of the Independence of the United States of America the two hundred and forty-fourth.

[FR Doc. 2019-24275

Filed 11-4-19; 11:15 am]

Billing code 3295-F0-P